DEPARTMENT OF ENERGY

Federal Energy Regulatory Commission

Notice of Application for Non-Project Use of Project Lands and Waters and Soliciting Comments, Motions To Intervene, and Protests

December 11, 2006.

Take notice that the following application has been filed with the Commission and is available for public inspection:

a. Application Type: Non-Project Use of Project Lands and Waters.

b. Project No: 2210-143.

c. Date filed: October 10, 2006.

d. Applicant: Appalachian Power Company.

e. Name of Project: Smith Mountain Pumped Storage Project.

f. Location: The project is located on the Roanoke River, in Bedford, Pittsylvania, Franklin, and Roanoke Counties, Virginia.

g. Filed Pursuant to: Federal Power Act, 16 U.S.C. 791(a)-825(r) and § § 799 and 801.

h. Applicant Contact: Teresa P. Rogers, Hydro Generation Department, Appalachian Power, P.O. Box 2021, Roanoke, VA 24022-2121, (540) 985-2441.

i. FERC Contact: Brian Romanek at 202-502-6175, or e-mail: Brian.Romanek@ferc.gov.

j. Deadline for filing comments and or motions: January 12, 2007.

All documents (original and eight copies) should be filed with: Magalie R. Salas, Secretary, Federal Energy Regulatory Commission, 888 First Street, NE., Washington, DC 20426. Please include the project number (P-2210-143) on any comments or motions filed. Comments, protests, and interventions may be filed electronically via the internet in lieu of paper. See, 18 CFR 385.2001(a)(1)(iii) and the instructions on the Commission's web site under the “e-Filing” link. The Commission strongly encourages e-filings.

k. Description of Application: The licensee requests a variance be granted to Willard Companies (Willard) for the construction of four floating docks accommodating 17 boats and to maintain an existing boat ramp, all of which would serve a residential community, known as “The Farms at Smith Mountain Lake” (located in Franklin County near Rocky Mount, Virginia). The licensee is requesting the variance because the proposed action is not in conformance with the approved project Shoreline Management Plan (SMP). The SMP does not allow for a boat ramp in conjunction with the allowable number of community docks at this site. Willard proposes to reduce the number of allowable boat docks from 48 to 17 along the 2,400 linear feet of shoreline fronting the community and to maintain the existing boat ramp. In addition, Willard proposes to stabilize 1,500 linear feet of shoreline with rip rap.

l. Location of Application: The filing is available for review at the Commission in the Public Reference Room, located at 888 First Street, NE, Room 2A, Washington, DC 20426, or may be viewed on the Commission's Web site at http://www.ferc.gov using the “e-Library” link. Enter the docket number excluding the last three digits in the docket number field to access the document. For assistance, please contact FERC Online support at FERCOnlineSupport@ferc.gov or toll free (866) 208-3676 or TTY, contact (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-21416 Filed 12-14-06; 8:45 am]

BILLING CODE 6717-01-P